NUCLEAR REGULATORY COMMISSION

[Docket No. 70-7004]

Notice of Public Scoping Meeting Regarding the Proposed USEC American Centrifuge Plant

AGENCY: United States Nuclear Regulatory Commission (NRC).

ACTION: Meeting notice.

SUMMARY: USEC Incorporated (USEC) submitted a license application to the NRC on August 23, 2004, proposing the construction, operation and future decommissioning of the American Centrifuge Plant (ACP) gas centrifuge uranium enrichment facility near Piketon, OH. The NRC previously announced its intent to prepare an Environmental Impact Statement (EIS) on October 15, 2004, (69 FR 61268). This notice is to notify the public and interested parties of a public meeting to discuss to the NRC's environmental review of the proposed ACP.

DATES: The public scoping process required by the National Environmental Policy Act (NEPA) will continue until February 1, 2005. Written comments submitted by mail should be postmarked by that date to ensure full consideration. Comments mailed after that date will be considered to the extent possible.

The NRC will conduct a public scoping meeting to assist in defining the appropriate scope of the EIS, including the significant environmental issues to be addressed. The meeting date, times and location are listed below:

Meeting Date: January 18, 2005.

Meeting Location: Zahns Corner Middle School, 2379 Schuster Road, Piketon, Ohio 45661.

Scoping Meeting: 7 p.m. to 9:45 p.m.

Members of the NRC staff will be available for informal discussions with members of the public from 6 p.m. to 7 p.m. The formal meeting and associated NRC presentation begins at 7 p.m. For planning purposes, those who wish to present oral comments at the meeting are encouraged to pre-register by contacting Ron Linton of the NRC by telephone at 1-800-368-5642, Extension 7777, or by e-mail to rcl1@nrc.gov no later than January 6, 2005. Interested persons may also register to speak at the meeting.

ADDRESSES: Members of the public and interested parties are invited and encouraged to submit comments to the Chief, Rules Review and Directives Branch, Mail Stop T6-D59, U.S. Nuclear Regulatory Commission, Washington, DC 20555-0001. The NRC encourages comments to be submitted electronically to nrcrep@nrc.gov. Please refer to Docket No. 70-7004 when submitting comments.

FOR FURTHER INFORMATION CONTACT: For general or technical information associated with the license review of the USEC application, please contact: Yawar Faraz at (301) 415-8113. For general information on the NRC NEPA process, or the environmental review process related to the USEC application, please contact: Matthew Blevins at (301) 415-7684.

SUPPLEMENTARY INFORMATION:

1.0 Background

USEC submitted a license application for a gas centrifuge uranium enrichment facility, known as the American Centrifuge Plant (ACP), to the NRC on August 23, 2004. The NRC environmental review will evaluate the potential environmental impacts associated with the proposed ACP in parallel with the NRC safety review of the license application. The environmental review will be documented in draft and final Environmental Impact Statements in accordance with NEPA and NRC NEPA implementing regulations at 10 CFR Part 51.

2.0 USEC Enrichment Facility

If licensed, the proposed ACP would enrich uranium for use in manufacturing commercial nuclear fuel for use in power reactors. Feed material would be natural (not enriched) uranium in the form of uranium hexafluoride (UF6). USEC proposes to use gas centrifuge technology to enrich isotope uranium-235 in the uranium hexafluoride up to 10 percent. The centrifuge would operate at below atomospheric pressure. The enriched UF6 would be transported to a fuel fabrication facility. The depleted UF6 would be stored on site until a disposition strategy (either re-use or disposal) is carried out by USEC.

Initially, the licensed capacity of the plant would be up to 3.5 million separative work units (SWU) [SWU relates to a measure of the work used to enrich uranium]. USEC has requested that the NRC environmental review examine the impacts of an enrichment plant with a 7 million SWU capacity to bound potential future expansions. Future expansion beyond 3.5 million SWU would still have to be approved by the NRC via a separate license amendment.

3.0 Alternatives To Be Evaluated

No action—The no-action alternative would be to not build the proposed ACP. Under this alternative the NRC would not approve the license application. This serves as a baseline for comparison.

Proposed action—The proposed action is the construction and operation of a gas centrifuge uranium enrichment facility located near Piketon, OH. Implementation of the proposed action would require the issuance of an NRC license under the provisions of 10 CFR Parts 30, 40 and 70.

Other alternatives not listed here may be identified through the scoping process.

4.0 Environmental Impact Areas To Be Analyzed

The following resource areas have been tentatively identified for analysis in the EIS:

—Public and Occupational Health: potential public and occupational consequences from construction, routine operation, transportation, and credible accident scenarios (including natural events);

—Waste Management: types of wastes expected to be generated, handled, and stored;

—Land Use: plans, policies and controls;

—Transportation: transportation modes, routes, quantities, and risk estimates;

—Geology and Soils: physical geography, topography, geology and soil characteristics;

—Water Resources: surface and groundwater hydrology, water use and quality, and the potential for degradation;

—Ecology: wetlands, aquatic, terrestrial, economically and recreationally important species, and threatened and endangered species;

—Air Quality: meteorological conditions, ambient background, pollutant sources, and the potential for degradation;

—Noise: ambient, sources, and sensitive receptors;

—Historical and Cultural Resources: historical, archaeological, and traditional cultural resources

—Visual and Scenic Resources: landscape characteristics, manmade features and viewshed;

—Socioeconomics: demography, economic base, labor pool, housing, transportation, utilities, public services/facilities, education, recreation, and cultural resources;

—Environmental Justice: potential disproportionately high and adverse impacts to minority and low-income populations; and

—Cumulative Effects: impacts from past, present and reasonably foreseeable actions at and near the site.

The examples under each resource area are not intended to be all inclusive, nor is this list an indication that environmental impacts will occur. The list is presented to facilitate comments on the scope of the EIS. Additions to, or deletions from, this list may occur as a result of the public scoping process.

5.0 Scoping Meetings

This notice is to encourage public involvement in the EIS process and to solicit public comments on the proposed scope and content of the EIS. The NRC will hold a public scoping meeting in Piketon, OH on January 18, 2005 to solicit both oral and written comments from interested parties.

Scoping is an early and open process designed to determine the range of actions, alternatives, and potential impacts to be considered in the EIS, and to identify the significant issues related to the proposed action. Scoping is intended to solicit input from the public and other agencies so that the analysis can be more clearly focused on issues of genuine concern. The principal goals of the scoping process are to:

—Identify public concerns;

—Ensure that concerns are identified early and are properly studied;

—Identify alternatives that will be examined;

—Identify significant issues that need to be analyzed; and

—Eliminate unimportant issues.

The scoping meetings will begin with NRC staff providing a description of NRC's role and mission followed by a brief overview of NRC's environmental review process and goals of the scoping meeting. The bulk of the meeting will be allotted for attendees to make oral comments.

6.0 Scoping Comments

Written comments should be mailed to the address listed above in the ADDRESSES section.

7.0 The NEPA Process

The EIS for the proposed ACP will be prepared according to NEPA and NRC NEPA implementing regulations at 10 CFR Part 51.

After the scoping process is complete, the NRC will prepare a draft EIS. The draft EIS is scheduled to be published in July 2005. A 45-day comment period on the draft EIS is planned, and public meetings to receive comments will be held approximately three weeks after distribution of the draft EIS. Availability of the draft EIS, the dates of the public comment period, and information about the public meetings will be announced in the Federal Register, on NRC's USEC web page, and in the local news media when the draft EIS is published. The final EIS is expected to be published in March 2006 that will incorporate public comments received on the draft EIS.

Dated at Rockville, MD, this 21st day of December, 2004.
For the Nuclear Regulatory Commission.
B. Jennifer Davis,
Chief, Environmental and Low-Level Waste Section, Division of Waste Management and Environmental Protection, Office of Nuclear Material Safety and Safeguards.

[FR Doc. 04-28455 Filed 12-28-04; 8:45 am]

BILLING CODE 7590-01-P